DEPARTMENT OF EDUCATION

[Docket No. ED-2020-SCC-0132]

Agency Information Collection Activities; Comment Request; Report of the Randolph-Sheppard Vending Facility Program

AGENCY: Office of Special Education and Rehabilitative Services (OSERS), Department of Education (ED).

ACTION: Notice.

SUMMARY: In accordance with the Paperwork Reduction Act of 1995, ED is proposing an extension to an existing information collection.

DATES: Interested persons are invited to submit comments on or before October 13, 2020.

ADDRESSES: To access and review all the documents related to the information collection listed in this notice, please use http://www.regulations.gov by searching the Docket ID number ED-2020-SCC-0132. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-8240.

FOR FURTHER INFORMATION CONTACT: For specific questions related to collection activities, please contact Christine Grassman, 202-245-6973.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Report of the Randolph-Sheppard Vending Facility Program.

OMB Control Number: 1820-0009.

Type of Review: An extension of an existing information collection.

Respondents/Affected Public: State, Local and Tribal Organizations.

Total Estimated Number of Annual Responses: 51.

Total Estimated Number of Annual Burden Hours: 689.

Abstract: The licensing and operation of vending facilities by blind vendors under the Act is supported by a combination of VR program funds, state appropriations, Federal vending machine income, and levied set asides from vendors. It provides persons who are blind with remunerative employment and self-support through the operation of vending facilities on Federal and other property. The program recruits qualified individuals who are blind, trains them on the management and operation of small business enterprises, and then licenses qualified blind vendors to operate the facilities. As required by 20 U.S.C. 107a(6)(a), the Secretary of Education, through the Commissioner of the Rehabilitation Services Administration (RSA), conducts periodic evaluations of the programs authorized under the Act. In addition, section 107b(4) requires entities designated as the SLA to make such reports in such form and containing such information as the Secretary may from time to time require. The information to be collected is a necessary component of the evaluation process and forms the basis for annual reporting to the Department. The data are also used to understand the distribution type and profitability of vending facilities throughout the country. Such information is useful in providing technical assistance to SLAs and property managers and in monitoring the implementation of the program. The Code of Federal Regulations, at 34 CFR 395.8, specifies that vending machine income received by the state from Federal property managers can be distributed to blind vendors in an amount not to exceed the national average income for blind vendors. This amount is determined through data collected by the RSA-15: Report of Randolph-Sheppard Vending Facility Program. In addition, the collection of information ensures the provision and transparency of activities referenced in 34 CFR 395.12 related to disclosure of program and financial information and assists with the requirement in 34 CFR 395.11 regarding the provision of training.

Dated: August 10, 2020.
Kate Mullan,
PRA Coordinator, Strategic Collections and Clearance, Governance and Strategy Division, Office of Chief Data Officer, Office of Planning, Evaluation and Policy Development.

[FR Doc. 2020-17715 Filed 8-12-20; 8:45 am]

BILLING CODE 4000-01-P